DEPARTMENT OF THE INTERIOR

National Park Service

Information Collection; Request for Extension

AGENCY: National Park Service, Interior.

ACTION: Notice of request for extension of a currently approved information collection.

SUMMARY: In compliance with the Paperwork Reduction Act of 1995, the National Park Service (NPS) is announcing its intention to request an extension of a currently approved information collection (OMB Control #102-0231) under 36 CFR part 51, § 51.47, regarding the appeal of a preferred offeror determination, §§ 51.55 regarding NPS approval of the construction of capital improvements by concessioners, and § 51.98 concerning recordkeeping requirements with which concessioners must comply. The collection described below has been forwarded to the Office of Management and Budget (OMB) for review and comment. The information request describes the nature of the information collection and the expected burden and cost.

DATES: OMB has up to 60 days to approve or disapprove the information collection but may respond after 30 days. Therefore, public comments should be submitted to OMB by May 12, 2004, in order to be assured of consideration.

ADDRESSES: You may submit comments directly to Ms. Ruth Salomon, Desk Officer for the Department of the Interior (OMB #1024-0231), OMB Office of Information and Regulatory Affairs, via facsimile at (202) 395-6566, or via e-mail at OIRA_DOCKET@omb.eop.gov. Also, you may mail or handcarry a copy of your comments to Cynthia L. Orlando, Concession Program Manager, National Park Service, 1849 C Street, NW. (2410), Washington, DC 20240, or electronically to cindy_orlando@nps.gov.

All comments will become a matter of public record. Copies of the proposed Information Collection Request can be obtained from Erica Smith-Chavis, National Park Service, 1849 C Street, NW. (2410), Washington, DC 20240.

For Further Information or a Copy of the Study Package Submitted for OMB Review, Contact: Erica Smith-Chavis, (202) 513-7144, National Park Service, 1849 C St, NW. (2410), Washington, DC 20240.

SUPPLEMENTARY INFORMATION:

Title: Concession Contract—36 CFR part 51.

OMB Control Number: 1024-0231.

Expiration Date of Approval: February 29, 2004.

Type of Request: Extension of a currently approved information collection.

Abstract: The Office of Management and Budget (OMB) regulations at 5 CFR 1320, which implement provisions of the Paperwork Reduction Act of 1995 (Pub. L. 104-13) require that interested members of the public and affected agencies have an opportunity to comment on information collection and recordkeeping activities (see 5 CFR 13200.8(d)). NPS has submitted a request to OMB to renew approval of the collection of information in 36 CFR part 51, § 51.47, regarding the appeal of a preferred offeror determination, §§ 51.54 and 51.55 regarding NPS approval of the construction of capital improvements by concessioners, and § 51.98 concerning recordkeeping requirements with which concessioners must comply. NPS is requesting a 3-year term of approval for this information collection activity.

An agency may not conduct or sponsor, and a person is not required to respond to, a collection of information unless it displays a currently valid OMB control number. The OMB control number for this collection of information is 1024-0231, and is identified in 36 CFR 51.104. As required under 5 CFR 1320.8(d), a Federal Register notice soliciting comments on these collections of information was published on December 5, 2003 (Page 68109-68110). No comments were received. This notice provides the public with an additional 30 days in which to comment on the following information collection activity:

The information is being collected to meet the requirements of Sections 403(7) and (8) of the NPS Concessions Management Improvement Act of 1998 (the Act), concerning the granting of a preferential right to renew a concession contract, Section 405 of the Act regarding the construction of capital improvements by concessioners, and Section 414 of the Act regarding recordkeeping requirements of concessioners. The information will be used by the agency in considering appeals concerning preferred offeror determinations, agency review and approval of construction projects and determinations with regard to the leasehold surrender interest value of such projects, and when necessary, agency review of a concessioner's books and records related to its activities under a concession contract.

Bureau Form Number: None.

Frequency of Collection: Once.

Description of Respondents: NPS concessioners, and, in the case of appeals of preferred offeror determinations, offerors in response to concession prospectuses.

Total Annual Responses: 758.

Total Annual Burden Hours: 3,276.

Send comments on (1) the need for the collection of information for the performance of the functions of the agency; (2) the accuracy of the agency's burden estimates; (3) ways to enhance the quality, utility and clarity of the information collection; (4) and ways to minimize the information collection burden on respondents, such as use of automated means of collection of the information, to the following address. Please refer to OMB control number 1024-0231 in all correspondence.

Our practice is to make comments, including names and homes addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: February 24, 2004.
Leonard E. Stowe,
Acting NPS Information Collection Clearance Officer, Washington Administrative Program Center.

[FR Doc. 04-8165 Filed 4-9-04; 8:45 am]

BILLING CODE 4310-70-M